DEPARTMENT OF ENERGY

Federal Energy Regulatory Commission

Combined Notice of Filings #1

Take notice that the Commission received the following electric corporate filings:

Docket Numbers: EC24-25-000.

Applicants: Moonshot Solar, LLC, PGR 2022 Lessee 5, LLC.

Description: Joint Application for Authorization Under section 203 of the Federal Power Act of Moonshot Solar, LLC, et al.

Filed Date: 12/15/23.

Accession Number: 20231215-5193.

Comment Date: 5 p.m. ET 1/5/24.

Take notice that the Commission received the following Complaints and Compliance filings in EL Dockets:

Docket Numbers: EL23-95-000; ER14-225-009.

Applicants: New Brunswick Energy Marketing Corporation, New Brunswick Energy Marketing Corporation.

Description: New Brunswick Energy Marketing Corporation submits Response to Show Cause Order.

Filed Date: 12/8/23.

Accession Number: 20231208-5225.

Comment Date: 5 p.m. ET 12/29/23.

Take notice that the Commission received the following electric rate filings:

Docket Numbers: ER23-2359-004.

Applicants: PJM Interconnection, L.L.C.

Description: Tariff Amendment: Amendment to ISA/CSA SA Nos. 6967 & 6968; Queue No. AD2-100/131-Docket ER23-2359 to be effective 9/6/2023.

Filed Date: 12/15/23.

Accession Number: 20231215-5223.

Comment Date: 5 p.m. ET 1/5/24.

Docket Numbers: ER24-19-001.

Applicants: Cottontail Solar 1, LLC.

Description: Tariff Amendment: Response to Deficiency Letter to be effective 1/15/2024.

Filed Date: 12/15/23.

Accession Number: 20231215-5206.

Comment Date: 5 p.m. ET 1/5/24.

Docket Numbers: ER24-20-001.

Applicants: Cottontail Solar 2, LLC.

Description: Tariff Amendment: Response to Deficiency Filing to be effective 12/4/2023.

Filed Date: 12/15/23.

Accession Number: 20231215-5208.

Comment Date: 5 p.m. ET 1/5/24.

Docket Numbers: ER24-21-001.

Applicants: Cottontail Solar 8, LLC.

Description: Tariff Amendment: Response to Deficiency Letter to be effective 12/15/2023.

Filed Date: 12/15/23.

Accession Number: 20231215-5213.

Comment Date: 5 p.m. ET 1/5/24.

Docket Numbers: ER24-116-001.

Applicants: Rhythm Ops, LLC.

Description: Tariff Amendment: Rhythm Ops LLC Supplemental Filing to be effective 12/16/2023.

Filed Date: 12/14/23.

Accession Number: 20231214-5205.

Comment Date: 5 p.m. ET 1/4/24.

Docket Numbers: ER24-134-001.

Applicants: Three Rivers District Energy, LLC.

Description: Tariff Amendment: Amendment to 1 to be effective 12/18/2023.

Filed Date: 12/15/23.

Accession Number: 20231215-5222.

Comment Date: 5 p.m. ET 1/5/24.

Docket Numbers: ER24-672-000.

Applicants: Moonshot Solar, LLC.

Description: Baseline eTariff Filing: Moonshot Solar, LLC MBR Tariff to be effective 2/1/2024.

Filed Date: 12/14/23.

Accession Number: 20231214-5211.

Comment Date: 5 p.m. ET 1/4/24.

Docket Numbers: ER24-673-000.

Applicants: PGR 2022 Lessee 5, LLC.

Description: Baseline eTariff Filing: PGR 2022 Lessee 5, LLC MBR Tariff to be effective 2/1/2024.

Filed Date: 12/14/23.

Accession Number: 20231214-5213.

Comment Date: 5 p.m. ET 1/4/24.

Docket Numbers: ER24-674-000.

Applicants: GenOn Energy Management, LLC.

Description: § 205(d) Rate Filing: Market-Based Rate Tariff Revisions to be effective 12/15/2023.

Filed Date: 12/14/23.

Accession Number: 20231214-5215.

Comment Date: 5 p.m. ET 1/4/24.

Docket Numbers: ER24-675-000.

Applicants: Pennsylvania Electric Company, PJM Interconnection, L.L.C.

Description: § 205(d) Rate Filing: Pennsylvania Electric Company submits tariff filing per 35.13(a)(2)(iii: Penelec submits One Construction Agreement, SA No. 6640 to be effective 2/14/2024.

Filed Date: 12/15/23.

Accession Number: 20231215-5035.

Comment Date: 5 p.m. ET 1/5/24.

Docket Numbers: ER24-676-000.

Applicants: Golden Fields Solar IV, LLC

Description: § 205(d) Rate Filing: SFA Amendment Filing to be effective 12/16/2023.

Filed Date: 12/15/23.

Accession Number: 20231215-5042.

Comment Date: 5 p.m. ET 1/5/24.

Docket Numbers: ER24-677-000.

Applicants: New York Independent System Operator, Inc., Niagara Mohawk Power Corporation.

Description: § 205(d) Rate Filing: New York Independent System Operator, Inc. submits tariff filing per 35.13(a)(2)(iii: NYISO-NMPC Joint 205: Scnd Amnd LGIA for Sithe Independence Facility SA1160 to be effective 12/1/2023.

Filed Date: 12/15/23.

Accession Number: 20231215-5047.

Comment Date: 5 p.m. ET 1/5/24.

Docket Numbers: ER24-678-000.

Applicants: PJM Interconnection, L.L.C.

Description: Tariff Amendment: Notice of Cancellation of WMPA, SA No. 6228; Queue No. AF2-057 Re: Withdrawal to be effective 2/14/2024.

Filed Date: 12/15/23.

Accession Number: 20231215-5065.

Comment Date: 5 p.m. ET 1/5/24.

Docket Numbers: ER24-679-000.

Applicants: Duke Energy Florida, LLC, Duke Energy Carolinas, LLC.

Description: Compliance filing: Duke Energy Florida, LLC submits tariff filing per 35: DEF-Compliance Filing—Attachment J to Joint OATT (LGIP/LGIA) to be effective 4/1/2024.

Filed Date: 12/15/23.

Accession Number: 20231215-5067.

Comment Date: 5 p.m. ET 1/5/24.

Docket Numbers: ER24-680-000.

Applicants: PJM Interconnection, L.L.C.

Description: § 205(d) Rate Filing: Revisions to CTOA re: Removal of ITCI as TO to be effective 2/14/2024.

Filed Date: 12/15/23.

Accession Number: 20231215-5082.

Comment Date: 5 p.m. ET 1/5/24.

Docket Numbers: ER24-681-000.

Applicants: PJM Interconnection, L.L.C.

Description: § 205(d) Rate Filing: Revisions to Tariff RE: Removal of ITCI as TO to be effective 2/14/2024.

Filed Date: 12/15/23.

Accession Number: 20231215-5100.

Comment Date: 5 p.m. ET 1/5/24.

Docket Numbers: ER24-682-000.

Applicants: Southern California Edison Company.

Description: § 205(d) Rate Filing: SCE 3rd Amend LGIA, Genesis McCoy Solar TOT223/SA109 + Termination LA (SA252) to be effective 2/14/2024.

Filed Date: 12/15/23.

Accession Number: 20231215-5105.

Comment Date: 5 p.m. ET 1/5/24.

Docket Numbers: ER24-683-000.

Applicants: Duke Energy Carolinas, LLC, Duke Energy Florida, LLC, Duke Energy Progress, LLC.

Description: Compliance filing: Duke Energy Carolinas, LLC submits tariff filing per 35: Revisions to Attachment M to Joint OATT (SGIP/SGIA) to be effective 4/1/2024.

Filed Date: 12/15/23.

Accession Number: 20231215-5112.

Comment Date: 5 p.m. ET 1/5/24.

Docket Numbers: ER24-684-000.

Applicants: Fitchburg Gas and Electric Light Company, ISO New England Inc.

Description: § 205(d) Rate Filing: Fitchburg Gas and Electric Light Company submits tariff filing per 35.13(a)(2)(iii: FG&E; Request to Correct the Tariff Record to be effective 3/1/2020.

Filed Date: 12/15/23.

Accession Number: 20231215-5128.

Comment Date: 5 p.m. ET 1/5/24.

Docket Numbers: ER24-685-000.

Applicants: Alabama Power Company, Georgia Power Company, Mississippi Power Company.

Description: § 205(d) Rate Filing: Alabama Power Company submits tariff filing per 35.13(a)(2)(iii: PowerSouth NITSA Amendment (Add Five Points 115 kV DP) to be effective 11/20/2023.

Filed Date: 12/15/23.

Accession Number: 20231215-5141.

Comment Date: 5 p.m. ET 1/5/24.

Docket Numbers: ER24-686-000.

Applicants: New York Independent System Operator, Inc., PJM Interconnection, L.L.C.

Description: § 205(d) Rate Filing: New York Independent System Operator, Inc. submits tariff filing per 35.13(a)(2)(iii: NYISO-PJM Joint 205 re: JOA tariff revisions to be effective 2/14/2024.

Filed Date: 12/15/23.

Accession Number: 20231215-5165.

Comment Date: 5 p.m. ET 1/5/24.

Docket Numbers: ER24-687-000.

Applicants: Golden Fields Solar III, LLC.

Description: § 205(d) Rate Filing: Certificate of Concurrence to be effective 12/16/2023.

Filed Date: 12/15/23.

Accession Number: 20231215-5166.

Comment Date: 5 p.m. ET 1/5/24.

Docket Numbers: ER24-688-000.

Applicants: Florida Power & Light Company.

Description: § 205(d) Rate Filing: FPL Amendments to OATT NWFL System Formula Rate Template to be effective 2/15/2024.

Filed Date: 12/15/23.

Accession Number: 20231215-5171.

Comment Date: 5 p.m. ET 1/5/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 15, 2023.
Debbie-Anne A. Reese,
Deputy Secretary.

[FR Doc. 2023-28133 Filed 12-20-23; 8:45 am]

BILLING CODE 6717-01-P